DEPARTMENT OF TRANSPORTATION

[Docket No. FAA-2023-2372]

Agency Information Collection Activities: Requests for Comments; Clearance of Renewed Approval of Information Collection: Application for Certificate of Waiver or Authorization

AGENCY: Federal Aviation Administration (FAA), DOT.

ACTION: Notice and request for comments.

SUMMARY: In accordance with the Paperwork Reduction Act of 1995, FAA invites public comments about our intention to request Office of Management and Budget (OMB) approval to renew an information collection. This collection affects persons who have a need to deviate from certain regulations that govern use of airspace within the United States. The request also describes the burden associated with authorizations to make parachute jumps and operate unmanned aircraft (including moored balloons, kites, unmanned rockets, and unmanned free balloons) and small unmanned aircraft systems.

DATES: Written comments should be submitted by April 22, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Raymond Plessinger by email at: raymond.plessinger@faa.gov; phone: (717) 774-8271.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0027.

Title: Application for Certificate of Waiver or Authorization.

Form Numbers: FAA form 7711-2.

Type of Review: Renewal.

Background: The Federal Register Notice with a 60-day comment period soliciting comments on the following collection of information was published on December 6, 2023 (88 FR 84871). The information collected by FAA Form 7711-2, Application for Certificate of Waiver or Authorization, is reviewed and analyzed by the FAA to determine the type and extent of the intended deviation from prescribed regulations. A certificate of waiver or authorization to deviate is generally issued to the applicant (individuals and businesses) if the proposed operation does not create a hazard to persons, property, or other aircraft, and includes the operation of unmanned aircraft. Applications for certificates of waiver to the provisions of parts 91 and 101 are made by using FAA Form 7711-2. Application for authorization to make parachute jumps (other than emergency or military operations) under part 105, section 105.15 (airshows and meets) also uses FAA Form 7711-2. Application for other types of parachute jumping activities are submitted in various ways; e.g., in writing, in person, by telephone, etc.

Persons authorized to deviate from provisions of part 101 are required to give notice of actual activities. Persons operating in accordance with the provisions of part 101 are also required to give notice of actual activities. In both instances, the notice of information required is the same. Therefore, the burden associated with applications for certificates of waiver or authorization and the burden associated with notices of actual aircraft activities are identified and included in this request for clearance.

Regarding operation of small unmanned aircraft systems under part 107, to obtain a certificate of waiver, an applicant will have to submit a request containing a complete description of the proposed operation and a justification, including supporting data and documentation as necessary that establishes that the proposed operation can safely be conducted under the terms of a certificate of waiver. The FAA expects that the amount of data and analysis required as part of the application will be proportional to the specific relief that is requested.

Respondents: 26,495, including approximately 5,500 annual applications for waivers from certain sections of Part 107.

Frequency: On occasion.

Estimated Average Burden per Response: 45 minutes for non-part 107 waivers; 45.7 hours for part 107 waivers.

Estimated Total Annual Burden: 19,871 hours (not-part 107) + 251,520 (part 107) = 271,391 hours.

Issued in Washington, DC, on March 15, 2024.
D.C. Morris,
Aviation Safety Analyst, Flight Standards Service, General Aviation and Commercial Division.

[FR Doc. 2024-05964 Filed 3-20-24; 8:45 am]

BILLING CODE 4910-13-P